NUCLEAR REGULATORY COMMISSION

Notice of Issuance of Regulatory Guide

AGENCY: Nuclear Regulatory Commission.

ACTION: Notice of Issuance and Availability of Regulatory Guide 1.212.

FOR FURTHER INFORMATION CONTACT: Mekonen Bayssie, Regulatory Guide Development Branch, Division of Engineering, Office of Nuclear Regulatory Research, U.S. Nuclear Regulatory Commission, Washington, DC 20555-0001, telephone (301) 415-0703 or e-mail to Mekonen.Bayssie@nrc.gov.

SUPPLEMENTARY INFORMATION:

I. Introduction

The U.S. Nuclear Regulatory Commission (NRC) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 1.212, “Sizing of Large Lead-Acid Storage Batteries,” was issued with a temporary identification as Draft Regulatory Guide, DG-1183. This guide describes a method that the staff of the NRC considers acceptable for use in complying with requirements and regulations on the criteria for the sizing of large lead-acid storage batteries for use in nuclear power plants. Specifically, the method described in this regulatory guide relates to requirements set forth in Title 10, Section 50.55a, “Codes and Standards,” of the Code of Federal Regulations (10 CFR 50.55a) (as amended by the Federal Register notice of April 13, 1999) and General Design Criteria (GDC) 1 and 17, as set forth in Appendix A, “General Design Criteria for Nuclear Power Plants,” to 10 CFR part 50, “Domestic Licensing of Production and Utilization Facilities”:

• 10 CFR 50.55a(a)(1) requires that structures, systems, and components be designed, fabricated, erected, constructed, tested, and inspected to quality standards commensurate with the importance of the safety function to be performed.

• GDC 1, “Quality Standards and Records,” requires that structures, systems, and components important to safety shall be designed, fabricated, erected, and tested to quality standards commensurate with the importance of the safety functions to be performed.

• GDC 17, “Electric Power Systems,” requires that an onsite electric power system and an offsite electric power system shall be provided to permit functioning of structures, systems, and components important to safety.

II. Further Information

In July 2008, DG-1183 was published with a public comment period of 60 days from the issuance of the guide. The public comment period closed on September 5, 2008. There were no public comments received. Electronic copies of Regulatory Guide 1.212 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 19th day of November 2008.
For the Nuclear Regulatory Commission.
Andrea D. Valentin,
Chief, Regulatory Guide Development Branch, Division of Engineering, Office of Nuclear Regulatory Research.

[FR Doc. E8-27956 Filed 11-24-08; 8:45 am]

BILLING CODE 7590-01-P